COMMODITY FUTURES TRADING COMMISSION

Reestablishment of the Global Markets Advisory Committee

AGENCY: Commodity Futures Trading Commission.

ACTION: Notice of Global Markets Advisory Committee reestablishment.

SUMMARY: The Commodity Futures Trading Commission (Commission) is publishing this notice to announce the reestablishment of the Global Markets Advisory Committee (GMAC). The Commission has determined that reestablishment of the GMAC is necessary and in the public's interest. No earlier than fifteen (15) days following the date of the publication of this notice, the GMAC Charter will be filed with the Commission; the Senate Committee on Agriculture, Nutrition and Forestry; the House Committee on Agriculture; the Library of Congress; and the General Services Administration's Committee Management Secretariat.

ADDRESSES: Written comments should be submitted to the attention of Christopher Kirkpatrick, Secretary of the Commission, either electronically to secretary@cftc.gov or by mail to Commodity Futures Trading Commission, Three Lafayette Centre, 1155 21st Street NW., Washington, DC 20581. Please submit your comments using only one method and identify that you are commenting on the GMAC's reestablishment.

FOR FURTHER INFORMATION CONTACT: Ted Serafini, GMAC Designated Federal Officer, at 202-418-5972.

SUPPLEMENTARY INFORMATION: In accordance with the Federal Advisory Committee Act (FACA), 5 U.S. C. App. II, the Commission is publishing this notice to announce the reestablishment of the GMAC. The Commission has determined that the reestablishment of the GMAC is necessary and in the public interest. The objectives and scope of activities of the GMAC are to conduct public meetings and to submit reports and recommendations on matters of public concern to the exchanges, firms, market users, and the Commission regarding the regulatory challenges of a global marketplace. The GMAC will help the Commission determine how it can avoid unnecessary regulatory or operational impediments to global business while still preserving core protections for customers and other market participants. The GMAC will also make recommendations for appropriate international standards for regulating futures and derivatives markets, as well as intermediaries. Additionally, the GMAC will assist the Commission in assessing the impact on U.S. markets and firms of the Commission's international efforts and the initiatives of foreign regulators and market authorities. The GMAC will also identify methods to improve both domestic and international regulatory structures while continuing to allow U.S. markets and firms to remain competitive in the global market. The GMAC's objectives and activities will allow the Commission to better promote its mission of protecting market users and the public from abusive practices, and help to foster open, competitive, and financially sound futures and options markets. Meetings of the GMAC are open to the public.

The GMAC will operate for two years from the date of reestablishment unless, before the expiration of that time period, its charter is renewed in accordance with section 14(b)(1) of the FACA, or the Commission directs that the GMAC terminate on an earlier date. A copy of the GMAC reestablishment charter will be filed with the Commission; the Senate Committee on Agriculture, Nutrition and Forestry; the House Committee on Agriculture; the Library of Congress; and the General Services Administration's Committee Management Secretariat. A copy of the reestablishment charter will be posted on the Commission's Web site at www.cftc.gov.

Issued in Washington, DC, on September 4, 2014, by the Commission.
Christopher J. Kirkpatrick,
Secretary of the Commission.

[FR Doc. 2014-21411 Filed 9-8-14; 8:45 am]

BILLING CODE 6351-01-P